DEPARTMENT OF ENERGY

Federal Energy Regulatory Commission

[Docket No. CP04-314-000]

Algonquin Gas Transmission Company; Notice of Application

May 6, 2004.

Take notice that on April 30, 2004, Algonquin Gas Transmission Company (Algonquin), 5400 Westheimer Court, Houston, Texas 77056-5310, filed in Docket No. CP04-314-000 an application for a Certificate of Public Convenience and Necessity pursuant to section 7 of the Natural Gas Act, and the regulations of the Federal Energy Regulatory Commission. Algonquin requests authorization to increase the maximum allowable operating pressure of its I-8 System located in Braintree, Massachusetts. The application is on file with the Commission and open to public inspection. The filing may also be viewed on the Web at http://www.ferc.gov using the “eLibrary” link. Enter the docket number excluding the last three digits in the docket number field to access the document. For assistance, call (202) 502-3676 or TTY, (202) 502-8659.

Algonquin states that its proposal is related to pipeline inspection work necessary for compliance with recent Department of Transportation pipeline safety regulations. Algonquin's I-8 System consists of about 2 miles of 16-inch diameter pipeline located in Braintree that begins at the East Braintree meter and regulation station, and extends north through residential streets to its end at the interconnection with Algonquin's I-9 System at the Potter Street meter and regulation station. Algonquin also states that the current maximum allowable operating pressure (MAOP) of the I-8 System is 750 pounds per square inch gauge (PSIG), while the 24-inch pipelines it connects to immediately upstream and downstream have an MAOP of 1,000 PSIG. Algonquin proposes, subject to the result of the hydrostatic testing, that it be allowed to increase the MAOP of the I-8 System from 750 PSIG to 958 PSIG.

Algonquin states that this will further compliance with the pipeline safety requirements and also enhances the flexibility and reliability of existing services on Algonquin's system. Algonquin also states that the increase in MAOP results in an additional 140,000 dekatherms per day of available firm transportation capacity to the greater Boston and northern New England natural gas markets. Algonquin also seeks a pre-determination of rolled-in rate treatment for this project. Algonquin requests that the Commission issue a final certificate no later than July 8, 2004, in order to meet the natural gas requirements in the Northeast for the 2004-2005 winter period.

The name, address, and telephone number of the person to whom any further questions, correspondence and communications concerning this Application should be addressed is: Steven E. Tillman, General Manager, Regulatory Affairs, Algonquin Gas Transmission Company, P.O. Box 1642, Houston, Texas 77251-1642; Phone: (713) 627-5113; Fax: (713) 627-5947.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: May 26, 2004.

Magalie R. Salas,
Secretary.

[FR Doc. E4-1098 Filed 5-12-04; 8:45 am]

BILLING CODE 6717-01-P